DEPARTMENT OF THE INTERIOR

Bureau of Land Management

[BLM_NV_FRN_MO#4500183119]

Notice of Segregation of Public Land for the Esmeralda Solar Projects, Esmeralda County, Nevada

AGENCY: Bureau of Land Management, Interior.

ACTION: Notice of segregation.

SUMMARY: Through this notice the Bureau of Land Management (BLM) is segregating public lands included in seven rights-of-way applications, serialized as NVNV106386133, for the Leeward Esmeralda (NVNV105848463), Connect Gen Smoky Valley (NVNV105848465), Arevia Gold Dust (NVNV105851657), Invenergy Nivloc (NVNV105851658), NextEra Esmeralda (NVNV105851682), Red Ridge 1 (NVNV105852204) and Red Ridge 2 (NVNV105852205) solar energy projects, from appropriation under the public land laws, including the Mining Law, but not the Mineral Leasing or Material Sales Acts, for a period of up to 2 years from the date of publication of this notice, subject to valid existing rights. This segregation is to allow for the orderly administration of the public lands to facilitate consideration of development of renewable energy resources. The public lands segregated by this notice total 117,384.38 acres.

DATES: This segregation for the lands identified in this notice is effective on November 20, 2024.

FOR FURTHER INFORMATION CONTACT: Perry B. Wickham, Field Manager, at telephone: (775) 482-7801; address: P.O. Box 911, 1553 S Main Street, Tonopah, NV 89049; or email: pwickham@blm.gov. Individuals in the United States who are deaf, deafblind, hard of hearing, or have a speech disability may dial 711 (TYY, TDD, or TeleBraille) to access telecommunication relay services. Individuals outside the United States should use the relay services offered within their country to make international calls to the point-of-contact in the United States.

SUPPLEMENTARY INFORMATION: Regulations found at 43 CFR 2091.3-1(e) and 2804.25(f) allow the BLM to segregate public lands within a right-of-way application area for solar energy development from the operation of the public land laws, including the Mining Law, by publication of a Federal Register notice. The BLM uses this segregation authority to preserve its ability to approve, approve with modifications, or deny proposed rights-of-way, and to facilitate the orderly administration of the public lands. This segregation is subject to valid existing rights, including existing valid mining claims located before this segregation notice. Licenses, permits, cooperative agreements, or discretionary land use authorizations of a temporary nature that would not impact lands identified in this notice may be allowed with the approval of an authorized officer of the BLM during the segregation period. The lands segregated under this notice are legally described as follows:

Mount Diablo Meridian, Nevada

T. 1 N., R. 37 E.,

Secs. 1 thru 5 and secs. 8 thru 16, unsurveyed;

Sec. 21, unsurveyed;

Sec. 22, partly unsurveyed, excepting M.S. No. 4895, Placer mining claims Blanco, Blanco #1, Blanco #2, Blanco #4, Blanco # 5, and Blanco #6;

Secs. 23 thru 26, unsurveyed;

Sec. 27, partly unsurveyed, excepting M.S. No. 4895, Placer mining claims Blanco, Blanco #1, Blanco #2, Blanco #4, Blanco # 5, and Blanco #6;

Secs. 35 and 36, unsurveyed.

T. 2 N., R. 37 E.,

Secs. 23 thru 26;

Sec. 32, S½NE¼, W½, and SE¼; sec. 33, W½ and SE¼;

Secs. 34 thru 36.

Tps. 1 and 2 N., R. 38 E., unsurveyed.

T.1 N., R. 38 ½ E.,

Secs. 4 thru 9, unsurveyed;

Sec. 16, N½, unsurveyed;

Sec. 17, N½, unsurveyed;

Sec. 18, N½, unsurveyed.

T.2 N., R 38 ½ E., unsurveyed.

T. 2 N., R. 39 E.,

Secs. 2 thru 10, unsurveyed;

Secs. 11 and 14, partly unsurveyed, excepting M.S. No. 2126 and M.S. No. 2135; secs. 15 thru 22 and secs. 28 thru 31, unsurveyed.

T.1 S., R. 38 E.,

Secs. 1 thru 16 and sec. 24.

T. 1 S., R. 39 E.,

Secs. 3 thru 10 and secs. 15 thru 22.

The area described contains 117,384.38 acres, according to the official plats of the surveys and protraction diagrams on file with the BLM.

As provided in the regulations, the segregation of lands in this notice will not exceed 2 years from the date of publication unless extended for an additional 2 years through publication of a new notice in the Federal Register. The segregation period will terminate and the land will automatically reopen to appropriation under the public land laws, including the Mining Law, at the earliest of the following dates: upon issuance of a decision by the authorized officer granting, granting with modifications, or denying the application for a right-of-way; automatically at the end of the segregation; or upon publication of a Federal Register notice terminating the segregation.

Upon termination of the segregation of these lands, all lands subject to this segregation would automatically reopen to appropriation under the public land laws, including the Mining Law.

Authority: 43 CFR 2091.3-1(e) and 43 CFR 2804.25(f).

Perry B. Wickham,
Field Manager, Tonopah Field Office.

[FR Doc. 2024-27124 Filed 11-19-24; 8:45 am]

BILLING CODE 4331-21-P